DEPARTMENT OF AGRICULTURE

Cooperative State Research, Education, and Extension Service

Special Research Grants Program—Pest Management Alternatives Research: Special Program Addressing Food Quality Protection Act Issues for Fiscal Year 2001; Request for Proposals

AGENCY: Cooperative State Research, Education, and Extension Service, USDA.

ACTION: Notice of request for proposals and request for input.

SUMMARY: The Cooperative State Research, Education, and Extension Service (CSREES) requests proposals for competitive grant awards under the Special Research Grants Program titled “Pest Management Alternatives Program: Addressing Food Quality Protection Act Issues for Fiscal Year (FY) 2001.” This program addresses anticipated changes in pest management on food, feed, livestock, and ornamental commodities resulting from implementation of the Food Quality Protection Act of 1996 (FQPA) and related regulatory actions.

The goals of this program are to develop, test, and implement pest management alternatives and possible mitigation strategies to ensure that crop producers have reliable methods of managing pests considered a high priority under the Food Quality Protection Act (FQPA) and related regulatory actions.

By this notice, CSREES also requests input regarding the FY 2001 Request for Proposals (RFP) for the Special Research Grants Program—Pest Management Alternatives Research: Special Program Addressing Food Quality Protection Act from any interested party. These comments will be considered in the development of the next RFP for this program. Such comments will be used in meeting the requirements of section 103(c)(2) of the Agricultural Research, Extension, and Education Reform Act of 1998.

DATES: Proposals must be received by close of business (COB) on May 14, 2001 (5 p.m. EST).

User comments are requested within six months from the issuance of this notice. Comments received after that date will be considered to the extent practicable (see Section VII.C.).

ADDRESSES: Proposals submitted through the U.S. mail should be sent to the following address: Special Research Grants Program—Pest Management Alternatives Research; Proposal Services Unit; Office of Extramural Programs; Cooperative State Research, Education, and Extension Service; U.S. Department of Agriculture; STOP 2245; 1400 Independence Avenue, SW.; Washington, DC 20250-2245.

Hand-delivered proposals (brought in person by the applicant or through a courier service) must be delivered to the following address: Special Research Grants Program—Pest Management Alternatives Research; Proposal Services Unit; Office of Extramural Programs; Cooperative State Research, Education, and Extension Service; U.S. Department of Agriculture; Room 1307, Waterfront Building; 800 9th Street, SW.; Washington, DC 20024. The telephone number is (202) 401-5048. Proposals transmitted via a facsimile (fax) machine will not be accepted.

Written user comments should be submitted by mail to: Policy and Program Liaison Staff; Office of Extramural Programs; USDA-CSREES; STOP 2299; 1400 Independence Avenue, SW., Washington, DC 20250-2299; or via e-mail to: RFP-OEP@reeusda.gov.

FOR FURTHER INFORMATION CONTACT: Dennis D. Kopp, Cooperative State Research, Education, and Extension Service; U.S. Department of Agriculture; STOP 2220; 1400 Independence Avenue, SW., Washington, DC 20250-2220. Telephone: (202) 401-6437; fax number: (202) 401-4888; e-mail address: dkopp@reeusda.gov.

Stakeholder Input

CSREES is requesting comments regarding the FY 2001 Special Research Grants Program—Pest Management Alternatives Research RFP from any interested party. In your comments, please include the name of the program and the fiscal year request for proposals to which you are responding. These comments will be considered in the development of the next request for proposals for the program. Such comments will be used in meeting the requirements of section 103(c)(2) of the Agricultural Research, Extension, and Education Reform Act of 1998, 7 U.S.C. 7613(c). Comments should be submitted as provided in the ADDRESSES and DATES portions of this Notice. The e-mail address in the ADDRESS portion is intended only for receiving comments regarding the FY 2001 RFP for this program, and not for requesting information or forms.

SUPPLEMENTARY INFORMATION:

Table of Contents

Part I. General Information

A. Legislative Authority

B. Eligibility

C. Applicant Peer Review Requirements

Part II. Program Description

A. Purpose of the Program

B. Available Funding

C. Program Description

Part III. Proposal Format

A. Application for Funding (Form CSREES-661)

B. Table of Contents

C. Executive Summary

D. Problem Statement

E. Objectives

F. Research, Education, and Technology Transfer Plan

G. Literature Cited

H. User Involvement

I. Facilities and Equipment

J. Collaborative Arrangements

K. Personnel Support

L. Budget

M. Additions to Project Description

N. Current and Pending Support

O. Assurance Statement(s)

P. Peer Review Certification

Q. Other Certifications

R. Compliance with the National Environmental Policy Act

Part IV. How to Obtain Application Materials

Part V. Submission of a Proposal

A. What to Submit

B. Where and When to Submit

C. Acknowledgment of Proposals

Part VI. Selection Process and Evaluation Criteria

A. Selection Process

B. Evaluation Criteria

Part VII. Supplementary Information

A. Confidentiality

B. Other Federal Statutes and Regulations that Apply

C. Additional Information

Part I. General Information

A. Legislative Authority

This program is administered by CSREES, United States Department of Agriculture (USDA). The authority is contained in section (c)(1)(A) of the Competitive, Special, and Facilities Research Grant Act, in section 2 of Pub. L. 89-106, as amended (7 U.S.C. 450i(c)(1)(A)). Under this authority, subject to the availability of funds, the Secretary may make grants, for periods not to exceed three years, to State agricultural experiment stations, all colleges and universities, other research institutions and organizations, Federal agencies, private organizations or corporations, and individuals for the purpose of conducting research to facilitate or expand promising breakthroughs in areas of the food and agricultural sciences of importance to the United States.

B. Eligibility

Proposals may be submitted by State agricultural experiment stations, all colleges and universities, other research institutions and organizations, Federal agencies, private organizations or corporations, and individuals.

Proposals from scientists affiliated with non-United States organizations are not eligible for funding nor are scientists who are directly or indirectly engaged in the development of pest management tactics for profit; however, their collaboration with funded projects is encouraged.

C. Applicant Peer Review Requirements

Subsection (c)(5) of the Competitive, Special, and Facilities Research Grant Act, as amended (7 U.S.C. 450i(c)(5)), requires applicants to conduct a scientific peer review of a proposed research project in accordance with regulations promulgated by the Secretary prior to the Secretary making a grant award under this authority. Regulations implementing this requirement are set forth in 7 CFR 3400.20. The regulations impose the following requirements for scientific peer review by applicants of proposed research projects:

1. Credible and independent. Review arranged by the grantee must provide for a credible and independent assessment of the proposed project. A credible review is one that provides an appraisal of technical quality and relevance sufficient for an organizational representative to make an informed judgment as to whether the proposal is appropriate for submission for Federal support. To provide for an independent review, such review may include USDA employees, but should not be conducted solely by USDA employees.

2. Notice of completion and retention of records. A notice of completion of the review shall be conveyed in writing to CSREES either as part of the submitted proposal or prior to the issuance of an award, at the option of CSREES. The written notice constitutes certification by the applicant that a review in compliance with these regulations has occurred. Applicants are not required to submit results of the review to CSREES; however, proper documentation of the review process and results should be retained by the applicant.

3. Renewal and supplemental grants. Review by the grantee is not automatically required for renewal or supplemental grants as defined in 7 CFR 3400.6. A subsequent grant award will require a new review if, according to CSREES, either the funded project has changed significantly, other scientific discoveries have affected the project, or the need for the project has changed. Note that a new review is necessary when applying for another standard or continuation grant after expiration of the grant term.

Part II. Program Description

A. Purpose of the Program

The Pest Management Alternatives Program (PMAP) was established to support the development and implementation of pest management alternatives when regulatory action by the Environmental Protection Agency (EPA) or voluntary cancellation by the registrant results in the unavailability of certain agricultural pesticides or pesticide uses. These activities pertain to pesticides identified for possible regulatory action under section 210 of the FQPA, Pub. L. No. 104-170, which amended the Federal Insecticide, Fungicide, and Rodenticide Act, or through EPA's pesticide re-registration program. The program has been developed pursuant to the Memorandum of Understanding (MOU) between USDA and EPA signed August 15, 1994, and amended April 18, 1996, which establishes a coordinated framework for these two agencies to support programs that make alternative pest management materials available to agricultural producers. In this MOU, USDA and EPA agreed to cooperate in conducting the research, technology transfer, and registration activities necessary to address pest management alternatives needed in agriculture.

B. Available Funding

The amount available for support of this program in fiscal year (FY) 2001 is approximately $1,500,000. It is anticipated that EPA will also provide support to the program. Section 710 of the Agriculture, Rural Development, Food and Drug Administration, and Related Agencies Appropriations Act for fiscal year 2001, Pub. L. 106-387, prohibits CSREES from paying indirect costs on competitively awarded agricultural research, education, or extension grants that exceed 19 percent of total Federal funds provided for each award. An alternative method of calculation of this limitation is to multiply total direct costs by 23.456 percent.

C. Program Description

This competitive grants program supports efforts to modify existing pest management approaches or develop new methods that address needs created by the implementation of FQPA and related regulatory actions. In FY 2001, CSREES will provide funding for projects that: (1) Identify and develop replacement or mitigation technologies for pesticides with uses that may change or be eliminated through FQPA implementation or related regulatory action, (2) demonstrate promising alternative pest management strategies in the field in close collaboration with interested growers and grower groups, and (3) support outreach activities that promote the implementation of pest management alternatives through education and extension. Proposals that include combinations of the three objectives will also be considered.

The EPA priorities for FQPA tolerance reassessment and reregistration review should be considered in determining needed alternative pest control chemistries and practices. The EPA priorities are given in a June 14, 2000, Federal Register notice “Pesticide Reregistration Performance Measures and Goals” (65 FR 37375, June 14, 2000) available on EPA web site at: http://www.epa.gov/fedrgstr/EPA-PEST/2000/June/Day-14/p15034.htm. This notice provides the schedule for completion of regulatory review for high priority chemicals. The overall priorities for FQPA review are given on the EPA web site at: http://www.epa.gov/oppfead1/fqpa/toleran.htm.

Activities funded by the PMAP could address work needed to facilitate grower knowledge and adoption of reduced risk pesticides that are newly-registered or are candidates for registration. Recently-registered chemical pesticides are identified in annual reports on the web site of the EPA Office of Pesticide Programs at: http://www.epa.gov/pesticides. Chemical pesticides that are candidates for registration in fiscal year 2001 are named in the interim work plan of the EPA Registration Division. The interim work plan is available on the web site at: http://www.epa.gov/opprd001/workplan. Twenty-five new chemicals are included in the work plan in addition to many new uses for 64 already-registered chemicals. The work plan provides the trade name, crops, and company for each chemical and identifies those chemicals that qualified for the EPA reduced-risk status. Biopesticides that are recently-registered and those under consideration for registration are identified on the web site at: http://www.epa.gov/pesticides/biopesticides.

Updates to EPA pesticide priority review and registration lists are available at: http://www.epa.gov/pesticides. EPA also issues an electronic newsletter that will announce updates. Sign-up information for the electronic newsletter is available at: http://www.epa.gov/pesticides.

Proposals should show substantial evidence that producers, commodity groups, and other affected user groups are actively involved in some or all of the following activities: (a) Needs assessment, (b) priority setting, (c) project design; and that they will be supportive of the project if it is funded. Public-private partnerships and matching resources from non-Federal sources, including producer or commodity groups, are encouraged. All proposals must include an outreach component. The amount of outreach activities increases from Objective I to Objective III below. Proposals should show potential for commercialization (including product registration if necessary) of any new technologies that are developed.

The three project objectives in FY 2001 are as follows:

I. Replacement or Mitigation Technologies: The focus should be on modification of existing approaches or introduction of new methods, especially biologically based methods, that can be rapidly brought to bear on pest management challenges resulting from implementation of FQPA and related regulatory actions. Durability and practicality of the proposed pest management option(s) or mitigation procedure(s), and compatibility with integrated pest management systems, are critical. Both technological and economic feasibility should be considered. Pest management alternatives or risk mitigation options identified should address various risk concerns including dietary, occupational and non-occupational exposure, ground and/or surface water, and other ecological risks. Applicants must document that a crop profile has been or is being developed for the crop targeted in the proposal, or otherwise provide compelling evidence as to the importance of their proposed research.

II. Demonstration Projects: The focus should be on technologies or mitigation strategies that have been developed and show promise, but require field demonstration.

III. Outreach Activities: An additional objective of the program in FY 2001 is to promote the exchange of pest management information related to FQPA implementation and related regulatory actions between researchers, extension agents, growers, and any other affected parties by offering one time support for publications, website development, regional workshops or other relevant activities during the FY 2001 funding cycle. The total available funding for proposals addressing only outreach activities will be no more than 10% of the total program budget.

Note: In FY 2001, PMAP is complemented by two FQPA-related pest management competitive grant programs administered by CSREES under the Integrated Research, Education, and Extension Competitive Grants Program, under section 406 of the Agricultural Research, Extension, and Education Reform Act of 1998 (7 U.S.C. 7626). These programs are the Crops at Risk (CAR) from FQPA Implementation program and the FQPA Risk Mitigation for Major Food Crop Systems program (RAMP). Both programs extend the horizon for successful development of alternatives from generally less than 2 years in the case of PMAP to between 2 to 4 years for CAR, and up to 5 years for RAMP. CAR will support intermediate-term research and implementation that provides a transition for the most vulnerable crops or cropping systems at risk because of FQPA. RAMP will support multi-state, long-term, biointensive research to enhance stability and sustainability of pest management systems of major food crop systems placed at risk because of FQPA. Also note that the development of replacements for methyl bromide is supported by the Methyl Bromide Transitions (MBT) Program, another program within the Integrated Research, Education, and Extension Competitive Grants Program. MBT is designed to support the discovery and implementation of practical pest management alternatives for commodities affected by the methyl bromide phase-out. PMAP is unable to consider proposals which better fit the eligibility of CAR, RAMP, or MBT. Contact Dennis D. Kopp (telephone: (202) 401-6437; fax:(202) 401-4888; e-mail address: dkopp@reeusda.gov) if you have questions about which program is most appropriate for your proposal.

Part III. Proposal Format

Each project description shall be complete in itself. The administrative provisions governing the Special Research Grants Program, 7 CFR Part 3400, set forth instructions for the preparation of grant proposals. The following requirements deviate from those contained in section 3400.4(c). The following provisions of this solicitation shall apply. Proposals should adhere to the format requirements for the specific objective addressed by the proposal format below. Sections A. through F. should be no more than 12 pages in length, numbered, and single-spaced with text on one side of the page using a 12 point (10 cpi) type font size and one-inch margins.

A. Application for Funding (Form CSREES-661)

All proposals must contain an Application for Funding (Form CSREES-661), which must be signed by the proposed principal investigator(s) and by the cognizant Authorized Organizational Representative (AOR) who possesses the necessary authority to commit the applicant's time and other relevant resources. Principal investigators who do not sign the proposal cover sheet will not be listed on the grant document in the event an award is made. The title of the proposal must be brief (80-character maximum), yet represent the major emphasis of the project. Because this title will be used to provide information to those who may not be familiar with the proposed project, highly technical words or phraseology should be avoided where possible. In addition, phrases such as “investigation of” or “research on” should not be used.

B. Table of Contents

For ease in locating information, each proposal must contain a detailed table of contents just after the proposal cover page. The Table of Contents should include page numbers for each component of the proposal. Pagination should begin immediately following the Table of Contents.

C. Executive Summary

Describe the project in terms that can be understood by a diverse audience of university personnel, producers, various public and private groups, budget staff, and the general public. This should be on a separate page, no more than one page in length and have the following format: Name(s) of principal investigator(s) and institutional affiliation, project title, key words, and project summary.

D. Problem Statement

Identify the pest management problem addressed, its significance, and options for solution. Identify the commodity(ies) and the pesticides that will be addressed by the proposed project. EPA has published in the Federal Register several lists of pesticides they consider high priority for review. Proposals that address pesticides on these lists will have priority (see Part VI.A.). Define the production area addressed, its size (including acreage), frequency and severity of losses to pests controlled with priority pesticides, and the potential applicability of this study to other production regions. As appropriate, proposals should address issues as they relate to current integrated pest management and crop production practices, technologic and economic feasibility of potential new practices, and their potential durability.

E. Objectives

Provide clear, concise, complete, and logically arranged statements of the specific aims of the proposed effort.

F. Research, Education, and Technology Transfer Plan

This section is needed only if the proposed project includes development of replacement or mitigation technologies (Objective I.). Proposals should provide a credible detailed plan for the research, education, and technology transfer required for implementation within the next two to four years of the alternative solution in the field, and should identify milestones of project accomplishments.

G. Literature Cited

A concise list of key references cited in the proposal should be included in this section.

H. User Involvement

Describe the role of producers, commodity groups, and other end-users in identifying the need for the work being proposed, and their anticipated involvement in the project if funded. Competitive proposals will demonstrate involvement of affected user groups in project design, implementation, and funding.

I. Facilities and Equipment

All facilities and major items of equipment that are available for use or assignment to the proposed research project during the requested period of support should be described. In addition, items of nonexpendable equipment not currently accessible and necessary to conduct and successfully complete the proposed project should be listed with the amount and justification for each item.

J. Collaborative Arrangements

If the nature of the proposed project requires collaboration or subcontractual arrangements with other research scientists, corporations, organizations, agencies, or entities, the applicant must identify the collaborator(s) and provide a full explanation of the nature of the collaboration. Funding contributions by collaborators that will be used to accomplish the stated objectives should be identified. Evidence (i.e., letters of intent) should be provided to assure peer reviewers that the collaborators involved have agreed to render this service. In addition, the proposal must indicate whether or not such a collaborative arrangement(s) has the potential for conflict(s) of interest.

K. Personnel Support

To assist peer reviewers in assessing the competence and experience of the proposed project staff, key personnel who will be involved in the proposed project must be clearly identified. For each principal investigator involved, and for all senior associates and other professional personnel who are expected to work on the project, whether or not funds are sought for their support, the following should be included:

(i) An estimate of the time commitments necessary.

(ii) Curriculum vitae. A concise curriculum vitae for all Principal Investigators is required and should be limited to 2 pages. The vitae should document academic and research experiences, commodity production knowledge and experience (e.g., educational, employment and professional history, and honors and/or awards). Unless pertinent to the project, to personal status, or to the status of the organization, meetings attended, seminars given, or personal data such as birth date, marital status, or community activities should not be included. Each vita shall be no more than two pages in length, excluding the publication lists.

(iii) Publication list(s). A chronological list of all publications in refereed journals during the past four years, including those in press, must be provided for each professional project member for whom a curriculum vitae is provided. Authors should be listed in the same order as they appear on each paper cited. Standard scientific journal citation format should be used for all references.

L. Budget

A detailed budget is required for each year of requested support. In addition, a summary budget is required detailing requested support for the overall project period. A copy of the form which must be used for this purpose (Form CSREES-55), along with instructions for completion, is included in the Application Kit and may be reproduced as needed by applicants. Funds may be requested under any of the categories listed, provided that the item or service for which support is requested may be identified as necessary for successful conduct of the proposed project, is allowable under applicable Federal cost principles, and is not prohibited under any applicable Federal statute. However, the recovery of indirect costs under this program may not exceed the lesser of the grantee institution's official negotiated indirect cost rate or the equivalent of 19 percent of total Federal funds awarded. This limitation also applies to the recovery of indirect costs by any sub-awardee or subcontractor, and should be reflected in the sub-recipient budget. Successful PIs, or their designated representative, and an end-user/beneficiary of the proposed activities will be required to participate in one regional outreach activity, i.e. workshop, field day, or growers meeting, approved by the CSREES program manager during the course of the project. Participation in regional workshops supported by this program should be given priority when planning outreach commitments. Travel support for two individuals per project to meet this requirement should be included in the budget. Proposals that request more than 10% of the total program budget (see Part II.B.) are required to provide additional justification and will be strictly scrutinized during the review process.

Note: For projects awarded under the authority of Sec. 2(c)(1)(A), no funds will be awarded for the renovation or refurbishment of research spaces; the purchase or installation of fixed equipment in such spaces; or for the planning, repair, rehabilitation, acquisition, or construction of a building or facility.

M. Additions to Project Description

The Administrator of CSREES, the members of peer review groups, and the relevant program staff expect each project description to be complete within the page limit established in this section (Proposal Format). However, if the inclusion of additional information is necessary to ensure the equitable evaluation of the proposal (e.g., photographs that do not reproduce well, reprints, and other pertinent materials that are deemed to be unsuitable for inclusion in the text of the proposal), then 20 copies of the materials should be submitted. Each set of such materials must be identified with the name of the submitting organization, and the name(s) of the principal investigator(s). Information may not be appended to a proposal to circumvent page limitations prescribed for the project description. Extraneous materials will not be used during the peer review process.

Note: Specific organizational management information relating to an applicant shall be submitted on a one-time basis prior to the award of a grant for this program if such information has not been provided previously under this or another program for which the sponsoring agency is responsible. If necessary, USDA will contact an applicant to request organizational management information once a proposal has been recommended for funding.

N. Current and Pending Support

All proposals must contain Form CSREES-663 listing this proposal and any other current public or private research support (including in-house support) to which key personnel identified in the proposal have committed portions of their time, whether or not salary support for the person(s) involved is included in the budget for each project. Analogous information must be provided for any pending proposals that are being considered by, or that will be submitted in the near future to, other possible sponsors, including other USDA programs or agencies. Concurrent submission of identical or similar proposals to other possible sponsors will not prejudice proposal review or evaluation by the Administrator of CSREES for this purpose. However, a proposal that duplicates or overlaps substantially with a proposal already reviewed and funded (or that will be funded) by another organization or agency will not be funded under this program.

O. Assurance Statement(s)

If it is anticipated that the research project will involve recombinant DNA or RNA research, experimental vertebrate animals, or human subjects, an Assurance Statement, Form CSREES-662, must be completed and included in the proposal. Please note that grant funds will not be released until CSREES receives and approves documentation indicating approval by the appropriate institutional committee(s) regarding DNA or RNA research, animal care, or the protection of human subjects, as applicable.

P. Peer Review Certification

By signing the Application for Funding form, the AOR of the applicant institution is providing the required certification that the full proposal has received a credible and independent peer review arranged by the institution (see Part I.C.).

Q. Other Certifications

Note that by signing the Application for Funding form the applicant is providing the required certifications set forth in 7 CFR part 3017, regarding Debarment and Suspension and Drug-Free Workplace, and 7 CFR part 3018, regarding Lobbying. The certification forms are included in this application package for informational purposes only. These forms should not be submitted with your proposal since by signing the Form CSREES-661 your organization is providing the required certifications.

If the project will involve a subcontractor or consultant, the subcontractor/consultant should submit a Form AD-1048 to the grantee organization for retention in their records. This form should not be submitted to USDA.

R. Compliance With the National Environmental Policy Act

As outlined in 7 CFR part 3407 (CSREES's implementing regulations of the National Environmental Policy Act of 1969 (NEPA), as amended (42 U.S.C. 4321 et seq.), environmental data or documentation for the proposed project is to be provided to CSREES in order to assist CSREES in carrying out its responsibilities under NEPA. These responsibilities include determining whether the project requires an Environmental Assessment (EA) or an Environmental Impact Statement (EIS) or whether it can be excluded from this requirement on the basis of one or more of the categorical exclusions listed in 7 CFR 3407.6. To assist CSREES in this determination, the applicant should review the categories defined for exclusion to ascertain whether the proposed project may fall within one of the exclusions.

Form CSREES-1234, NEPA Exclusions Form (copy in Application Kit), indicating the applicant's opinion of whether or not the project falls within one or more categorical exclusions, along with supporting documentation, must be included in the proposal. The information submitted in association with NEPA compliance should be identified in the Table of Contents as “NEPA Considerations” and Form CSREES-1234 and supporting documentation should be placed after the Form CSREES-661, Application for Funding, in the proposal.

Even though the applicant considers that a proposed project may fall within a categorical exclusion, CSREES may determine that an EA or an EIS is necessary for an activity if substantial controversy on environmental grounds exists or if other extraordinary conditions or circumstances are present that may cause such activity to have a significant environmental effect.

Part IV. How To Obtain Application Materials

Copies of this solicitation, the administrative provisions for the Program (7 CFR part 3400), and the Application Kit, which contains required forms, certifications, and instructions for preparing and submitting applications for funding, may be obtained by contacting: Proposal Services Unit; Office of Extramural Programs; Cooperative State Research, Education, and Extension Service; U.S. Department of Agriculture; STOP 2245; 1400 Independence Avenue, SW.; Washington, DC 20250-2245; telephone: (202) 401-5048. When contacting the Proposal Services Unit, please indicate that you are requesting forms for the Special Research Grants Program—Pest Management Alternatives Research: Special Program Addressing Food Quality Protection Act Issues.

Application materials may also be requested via Internet by sending a message with your name, mailing address (not e-mail) and telephone number to psb@reeusda.gov that states that you wish to receive a copy of the application materials for the FY 2001 Special Research Grants Program—Pest Management Alternatives Research: Special Program Addressing Food Quality Protection Act Issues. The materials will then be mailed to you (not e-mailed) as quickly as possible.

Part V. Submission of a Proposal

A. What To Submit

An original and 20 copies of a proposal must be submitted. Each copy must be stapled securely in the upper left-hand corner (DO NOT BIND). All copies of the proposal must be submitted in one package.

B. Where and When To Submit

Proposals must be received by COB on May 14, 2001 (5:00 p.m. EST). Proposals submitted by mail must be sent to the following address: Special Research Grants—Pest Management Alternatives Program; c/o Proposal Services Unit; Office of Extramural Programs; Cooperative State Research, Education, and Extension Service; U.S. Department of Agriculture; Mail STOP 2245; 1400 Independence Avenue, SW.; Washington, DC 20250-2245; telephone: (202) 401-5048.

Proposals to be delivered by Express mail, courier service, or by hand must be sent to the following address: Special Research Grants—Pest Management Alternatives; c/o Proposal Services Unit; Office of Extramural Programs; Cooperative State Research, Education, and Extension Service; U.S. Department of Agriculture; Room 1307, Waterfront Building; 800 9th Street, SW.; Washington, DC 20024; telephone: (202) 401-5048.

C. Acknowledgment of Proposals

The receipt of all proposals will be acknowledged by e-mail, therefore applicants are encouraged to provide e-mail addresses, where designated, on the Form CSREES-661. The acknowledgment will contain an identifying proposal number. Once your proposal has been assigned a proposal number, please cite that number in all future correspondence.

Part VI. Selection Process and Evaluation Criteria

A. Selection Process

Priority will be given to proposals that address pesticides currently under regulatory review or being evaluated by EPA (see Part II.C.). Proposals will be evaluated for relevancy , methodology and scientific rigor by a peer panel with appropriate expertise. Panel members will include representatives with appropriate scientific backgrounds from land-grant universities, USDA, EPA, and other organizations representative of the breadth of the program's stakeholders. Funding determinations will be based on, subject to the availability of funds, the proposals receiving the highest combined relevancy and scientific merit scores.

B. Evaluation Criteria

1. Relevance to Program Objectives (30 points). Factors that will be considered include: importance of the crop/pest combination (particularly agronomic and economic considerations), number of crops and pesticides addressed, user involvement in planning and implementation, potential for rapid integration (within 3 years) into production practices, and demonstration of consideration of existing IPM programs.

2. Importance of the Problem (Problem Statement) (particularly ecological and agronomic considerations) (10 points)

3. Appropriateness of Methods in Meeting Objectives (15 points)

4. Feasibility of Attaining Project Objectives Within the Time Period Allotted. (10 points)

4. Potential to Reduce Reliance (15 points)

5. Level of User Involvement (10 points)

6. Appropriateness of the Budget (10 points)

Part VII. Supplementary Information

A. Confidentiality

CSREES receives grant proposals in confidence and will protect the confidentiality of their contents to the maximum extent permitted by law. Information contained in unfunded proposals will remain the property of the applicant. However, CSREES will retain one copy of all proposals received for a one year period; extra copies will be destroyed.

When a proposal results in a grant, it becomes a part of the public record, available to the public upon specific request under the Freedom of Information Act (FOIA). Information that the Secretary of Agriculture determines to be of a privileged nature will be held in confidence to the extent permitted by law. Therefore, any information that the applicant wishes to have considered as privileged should be clearly marked by the applicant with the term “confidential proprietary information.”

B. Other Federal Statutes and Regulations That Apply

This program is subject to the administrative provisions for the Special Research Grants Program found in 7 CFR Part 3400, which set forth procedures to be followed when submitting grant proposals, rules governing the evaluation of proposals, the processes regarding the awarding of grants, and regulations relating to the post-award administration of such grants. However, where there are differences between this RFP and the administrative provisions, this RFP shall take precedence to the extent that the administrative provisions authorize such deviations. Other Federal statutes and regulations apply to grant proposals considered for review or to grants awarded under this program. These include, but are not limited to:

7 CFR Part 3019—USDA Uniform Administrative Requirements for Grants and Other Agreements with Institutions of Higher Education, Hospitals, and Other Non-Profit Organizations; and

7 CFR Part 3052—Audits of States, Local Governments, and Non-Profit Organizations.

C. Additional Information

For reasons set forth in the final rule-related Notice to 7 CFR part 3015, subpart V, (48 FR 29115, June 24, 1983) this program is excluded from the scope of Executive Order No. 12372 which requires intergovernmental consultation with State and local officials. Under the provisions of the Paperwork Reduction Act of 1995, as amended (44 U.S.C. chapter 35), the collection of information requirements contained in this Notice have been approved under OMB Document No. 0524-0022.

Done at Washington, DC, this 7th day of March 2001.
Colien Hefferan.
Administrator, Cooperative State Research, Education, and Extension Service.

[FR Doc. 01-6202 Filed 3-12-01; 8:45 am]

BILLING CODE 3410-22-P